NATIONAL LABOR RELATIONS BOARD

29 CFR Ch. I

Regulatory Agenda; Semiannual Regulatory Agenda

AGENCY: National Labor Relations Board.

ACTION: Semiannual regulatory agenda.

SUMMARY: The following agenda of the National Labor Relations Board (NLRB) is published in accordance with Executive Order 12866, “Regulatory Planning and Review,” and the Regulatory Flexibility Act (RFA), 5 U.S.C. 601-612, as amended by the Small Business Regulatory Enforcement Fairness Act.

The complete Unified Agenda is available online at www.reginfo.gov. Publication in the Federal Register is mandated only for regulatory flexibility agendas required under the RFA. Because the RFA does not require regulatory flexibility agendas for the regulations proposed and issued by the Board, the Board's agenda appears only on the internet at www.reginfo.gov.

The Board's agenda refers to www.regulations.gov, the Government website at which members of the public can find, review, and comment on Federal rulemakings that are published in the Federal Register and open for comment.

FOR FURTHER INFORMATION CONTACT: For further information concerning the regulatory actions listed in the agenda, contact Farah Z. Qureshi, Associate Executive Secretary, National Labor Relations Board, 1015 Half Street SE, Washington, DC 20570; telephone 202-273-1949, TTY/TDD 1-800-315-6572; email Farah.Qureshi@nlrb.gov.

Farah Z. Qureshi,
Associate Executive Secretary.

National Labor Relations Board—Proposed Rule Stage
Sequence No. | Title | Regulation Identifier No.
492 | Blocking Charge, Voluntary Recognition, and 9(a) | 3142-AA16

National Labor Relations Board—Final Rule Stage
Sequence No. | Title | Regulation Identifier No.
493 | Joint-Employer Rulemaking | 3142-AA13

NATIONAL LABOR RELATIONS BOARD (NLRB)

Proposed Rule Stage

492. Blocking Charge, Voluntary Recognition, and 9(a)

E.O. 13771 Designation: Independent agency.

Legal Authority: 29 U.S.C. 156

Abstract: The National Labor Relations Board (the Board) will be revising the representation election regulations located at 29 CFR part 103, with a specific focus on revisions of the Board's current election bar policies.

Timetable:

Action | Date | FR Cite
NPRM | 08/12/19 | 84 FR 39930
NPRM Comment Period Extended | 10/10/19 | 84 FR 54533
NPRM Comment Period Extended End | 12/10/19

Regulatory Flexibility Analysis Required: Yes.

Agency Contact: Farah Qureshi, National Labor Relations Board, 1015 Half Street SE, Washington, DC 20570, Phone: 202 273-1949, Email: farah.qureshi@nlrb.gov.

Roxanne Rothschild, National Labor Relations Board, 1015 Half Street SE, Washington, DC 20570, Phone: 202 273-2917, Email: roxanne.rothschild@nlrb.gov.

RIN: 3142-AA16

NATIONAL LABOR RELATIONS BOARD (NLRB)

Final Rule Stage

493. Joint-Employer Rulemaking

E.O. 13771 Designation: Independent agency.

Legal Authority: 29 U.S.C. 156

Abstract: The National Labor Relations Board will be engaging in rulemaking to establish the standard for determining joint-employer status under the National Labor Relations Act.

Timetable:

Action | Date | FR Cite
NPRM | 09/14/18 | 83 FR 46681
NPRM Comment Period Extended | 11/05/18 | 83 FR 55329
NPRM Comment Period Extended | 12/13/18 | 83 FR 64053
NPRM Comment Period Extended | 01/11/19
NPRM Comment Period End | 01/28/19
Final Rule | 12/00/19

Regulatory Flexibility Analysis Required: Yes.

Agency Contact: Roxanne Rothschild, National Labor Relations Board, 1015 Half Street SE, Washington, DC 20570, Phone: 202 273-2917, Email: roxanne.rothschild@nlrb.gov.

Farah Qureshi, National Labor Relations Board, 1015 Half Street SE, Washington, DC 20570, Phone: 202 273-1949, Email: farah.qureshi@nlrb.gov.

RIN: 3142-AA13

[FR Doc. 2019-26558 Filed 12-23-19; 8:45 am]

BILLING CODE 7545-01-P